DEPARTMENT OF VETERANS AFFAIRS

[OMB Control No. 2900-0128]

Agency Information Collection Activity Under OMB Review: Notice of Lapse, Notice of Past Due Payment

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before April 3, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0128” in any correspondence.

FOR FURTHER INFORMATION CONTACT: Danny S. Green at (202) 421-1354. Please refer to “OMB Control No. 2900-0128” in any correspondence.

SUPPLEMENTARY INFORMATION:

Authority: 44 U.S.C. 3501-21.

Title: Notice of Lapse, Notice of Past Due Payment VA Form 29-389 and VA Form 29-389-1.

OMB Control Number: 2900-0128.

Type of Review: Extension of a previously approved collection.

Abstract: These forms are used by the policyholder to reinstate a lapsed life insurance policy. The information requested is authorized by law, 38 CFR Section 8.11.

An agency may not conduct or sponsor, and a person is not required to respond to a collection of information unless it displays a currently valid OMB control number. The Federal Register Notice with a 60-day comment period soliciting comments on this collection of information was published at 83 FR 32954 on July 16, 2018 page 32954.

Affected Public: Individuals or Households.

Estimated Annual Burden: 4,281.

Estimated Average Burden per Respondent: 11 minutes.

Frequency of Response: On occasion.

Estimated Number of Respondents: 23,352.

By direction of the Secretary.
Danny S. Green,
VA Interim Clearance Officer, Office of Quality, Privacy and Risk, Department of Veterans Affairs.

[FR Doc. 2019-03789 Filed 3-1-19; 8:45 am]

BILLING CODE 8320-01-P